DEPARTMENT OF THE INTERIOR

Geological Survey

[GX11EB00A184000]

Agency Information Collections Activities; The Pecora Award; Application and Nomination Process

AGENCY: United States Geological Survey (USGS), Interior.

ACTION: Notice; request for comments for a new information collection.

SUMMARY: We (the U.S. Geological Survey) will ask the Office of Management and Budget (OMB) to approve the information collection (IC) described below. As required by the Paperwork Reduction Act of 1995, and as part of our continuing efforts to reduce paperwork and respondent burden, we invite the general public and other Federal agencies to take this opportunity to comment on this IC. After public review, we will submit an information request to the Office of Management and Budget for review and consideration for approval. Please note that we may not conduct or sponsor and a person is not required to respond to a collection of information unless it displays a currently valid OMB control number.

DATES: To ensure that we are able to consider your comments to this IC, we must receive them on or before October 17, 2011.

ADDRESSES: Send your comments and suggestions on this IC to the USGS Information Collection Clearance Officer, U.S. Geological Survey, 12201 Sunrise Valley Drive, Mail Stop 807, Reston, VA 20192 (mail); 703-648-7197 (phone); 703-648-6853 (fax); or cbartlett@usgs.gov (e-mail). Please reference Information Collection 1028-NEW Pecora Award in the subject line.

FOR FURTHER INFORMATION CONTACT: To request additional information about this IC, please contact the U.S. Geological Survey, Tina Pruett, MS-517, 12201 Sunrise Valley Dr., Reston, VA 20192 (mail), by telephone (703)-648-4585, or tpruett@usgs.gov (e-mail).

SUPPLEMENTARY INFORMATION:

I. Abstract

The William T. Pecora Award is presented annually to individuals or groups that make outstanding contributions toward understanding the earth by means of remote sensing. The award is sponsored jointly by the Department of the Interior (DOI) and the National Aeronautics and Space Administration (NASA).

In 1974 the Pecora award was established in honor of Dr. William T. Pecora, former Director of the U.S. Geological Survey, Under Secretary, Department of the Interior and a motivating force behind the establishment of a program for civil remote sensing of the earth from space. The purpose of the award is to recognize individuals or groups working in the field of remote sensing of the earth. National and international nominations are accepted from the public and private sector individuals, teams, organizations, and professional societies.

Nomination packages include three sections: (A) Cover Sheet, (B) Summary Statement, and (C) Supplemental Materials. The cover sheet includes professional contact information. The Summary Statement is limited to two pages and describes the nominee's achievements in the scientific and technical remote sensing community, contributions leading to successful practical applications of remote sensing, and/or major breakthroughs in remote sensing science or technology. Nominations may include up to 10 pages of supplemental information such as resume, publications list, and/or letters of endorsement.

The award consists of a citation and plaque, which are presented to the recipient at an appropriate public forum by the Secretary of the Interior and the NASA Administrator or their representatives. The name of the recipient is also inscribed on permanent plaques, which are displayed by the sponsoring agencies.

II. Data

OMB Control Number: 1028-NEW.

Title: The Pecora Award; Application and Nomination Process.

Type of Request: This is a new collection.

Affected Public: Individuals or households; businesses and other academic and non-profit institutions; State, local and tribal governments.

Respondent's Obligation: Voluntary.

Frequency of Collection: Annually.

Estimated Annual Number of Respondents: 20.

Estimated Total Annual Responses: 20.

Estimated Time per Response: 10 hours.

Estimated Total Annual Burden Hours: 200.

III. Request for Comments

We invite comments concerning this IC on: (a) Whether the proposed collection of information is necessary for the agency to perform its duties, including whether the information will have practical utility; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publicly available at anytime. While you can ask OMB in your comment to withhold your personal identifying information from public review, we cannot guarantee that will be done.

Dated: August 9, 2011.
Bruce Quirk,
Program Coordinator, Land Remote Sensing Program, U.S. Geological Survey.

[FR Doc. 2011-20821 Filed 8-15-11; 8:45 am]

BILLING CODE 4311-AM-P